DEPARTMENT OF ENERGY

Federal Energy Regulatory Commission

[Docket No. CP22-493-000]

Tennessee Gas Pipeline Company, LLC; Notice of Availability of the Final Environmental Impact Statement for the Proposed Cumberland Project

The staff of the Federal Energy Regulatory Commission (FERC or Commission) has prepared a final Environmental Impact Statement (EIS) for the Cumberland Project (Project), proposed by Tennessee Gas Pipeline Company, LLC (Tennessee) in the above-referenced docket. Tennessee requests a Certificate of Public Convenience and Necessity to construct, operate, and maintain certain natural gas transmission pipeline and facilities in Dickson, Houston, and Stewart Counties, Tennessee. The Project purpose is to provide up to 245,040 dekatherms per day of new firm transportation service to the Tennessee Valley Authority's (TVA) Cumberland Natural Gas Combined Cycle Power Plant. Prior to filing its application, Tennessee participated in the Commission's Pre-filing Process for this Project under Docket No. PF22-2-000.

The final EIS assesses the potential environmental effects of the construction and operation of the Project in accordance with the requirements of the National Environmental Policy Act (NEPA) and responds to comments that were received on the Commission's February 3, 2023 draft EIS. The FERC staff concludes that approval of the proposed Project would result in some adverse environmental impacts; however, with the exception of climate change impacts, these impacts would be reduced to less-than-significant levels because of avoidance, minimization, and mitigation measures proposed by Tennessee and those recommended by staff in the EIS. Climate change impacts are not characterized in the EIS as significant or insignificant.

The U.S. Army Corps of Engineers and the U.S. Environmental Protection Agency participated as cooperating agencies in the preparation of the EIS. Cooperating agencies have jurisdiction by law or special expertise with respect to resources potentially affected by a proposal and participate in the NEPA analysis. Although both agencies provided input to the conclusions and recommendations presented in the EIS, each agency may present its own conclusions and recommendations in any applicable Records of Decision or other documentation for the Project.

The EIS addresses the potential environmental effects of the construction and operation of the following Project facilities, all in the state of Tennessee:

• Cumberland Pipeline: Construction of approximately 32 miles of new 30-inch-diameter natural gas pipeline, which would connect at Tennessee's existing Line 100-3 and Line 100-4. The Cumberland Pipeline would be located in Dickson, Houston, and Stewart Counties.

• Pressure Regulation Station: Construction of two new bi-directional back pressure regulation facilities on Line 100-3 and Line 100-4, at milepost 0.0 of the proposed new Cumberland Pipeline in Dickson County.

• Cumberland Meter Station: Construction of a new meter station at the terminus of the Cumberland Pipeline, located within TVA's property in Stewart County.

• Launcher and Receiver: Construction of in-line inspection traps, for in-line inspection tools at each end of the Cumberland Pipeline.

• Mainline Valves: Construction of three new mainline valves. One would be installed at an intermediate location along the Cumberland Pipeline, and the remaining two would be on Tennessee's Line 100-3 and Line 100-4 within the new Pressure Regulation Station.

The final EIS is not a decision document. It presents Commission staff's independent analysis of the environmental issues for the Commission to consider when addressing the merits of all issues in this proceeding.

The Commission mailed a copy of the Notice of Availability for the final EIS to federal, state, and local government representatives and agencies; elected officials; environmental and public interest groups; Native American Tribes; potentially affected landowners and other interested individuals and groups; and newspapers and libraries in the Project area. The final EIS is only available in electronic format. It may be viewed and downloaded from the FERC website (https://ferc.gov/), on the natural gas environmental documents page (https://www.ferc.gov/industries-data/natural-gas/environmental-overview/environmental-documents-2023). In addition, the EIS may be accessed using the eLibrary link on the FERC website. Click on the eLibrary link (https://elibrary.ferc.gov/eLibrary/search) select “General Search” and enter the docket number in the “Docket Number” field, excluding the last three digits (i.e., CP22-493). Be sure you have selected an appropriate date range. For assistance, please contact FERC Online Support at FercOnlineSupport@ferc.gov or toll free at (866) 208-3676, or for TTY, contact (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Additional information about the project is available from the Commission's Office of External Affairs, at (866) 208-FERC, or on the FERC website (www.ferc.gov) using the eLibrary link. The eLibrary link also provides access to the texts of all formal documents issued by the Commission, such as orders, notices, and rulemakings.

In addition, the Commission offers a free service called eSubscription that allows you to keep track of all formal issuances and submittals in the specific dockets. This can reduce the amount of time you spend researching proceedings by automatically providing you with notification of these filings, document summaries, and direct links to the documents. Go to https://www.ferc.gov/ferc-online/overview to register for eSubscription.

Dated: June 30, 2023.
Kimberly D. Bose,
Secretary.

[FR Doc. 2023-14422 Filed 7-6-23; 8:45 am]

BILLING CODE 6717-01-P